DEPARTMENT OF AGRICULTURE

Forest Service

Information Collection; Temporary Bridge Funding Opportunity Program

AGENCY: Forest Service, Agriculture (USDA).

ACTION: Notice; request for comment.

SUMMARY: In accordance with the Paperwork Reduction Act of 1995, the Forest Service is seeking comments from all interested individuals and organizations on the extension of a currently approved information collection, Temporary Bridge Funding Opportunity Program.

DATES: Comments must be received in writing on or before February 21, 2023 to be assured of consideration. Comments received after that date will be considered to the extent practicable.

ADDRESSES: Comments concerning this notice should be addressed to contact listed under FOR FURTHER INFORMATION CONTACT.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at the Sydney R. Yates Federal Building, 1400 Independence Ave., Washington, DC, Room 3NW Yates during normal business hours. Visitors are encouraged to call ahead to 800-832-1355 to facilitate entry to the building. The public may request an electronic copy of the draft supporting statement and/or any comments received be sent via return email. Requests should be emailed to the contact listed under FOR FURTHER INFORMATION CONTACT.

FOR FURTHER INFORMATION CONTACT: Kevin Naranjo, Cooperative Forestry, Wood Innovations, 404-673-3482, kevin.naranjo@usda.gov, or via facsimile 202-205-1271. Individuals who use telecommunication devices for the deaf (TDD) may call the Federal Information Relay Service (FIRS) at 800-877-8339 twenty-four hours a day, every day of the year, including holidays.

SUPPLEMENTARY INFORMATION:

Title: Temporary Bridge Funding Opportunity Program.

OMB Number: 0596-0255.

Expiration Date of Approval: 05/31/2023.

Type of Request: Extension with no revision of a currently approved information collection.

Abstract: USDA Forest Service is delivering the Temporary Bridge Funding Opportunity (TBFO) Program as part of the Bipartisan Infrastructure Law. Section 40804(b)5 of the Infrastructure Investment and Jobs Act Public Law 117-58 (11/15/2021) directs the Forest Service to provide funding for States and Indian Tribes to establish rental programs for portable skidder bridges, bridge mats, or other temporary water crossing structures, to minimize stream bed disturbance on non-Federal land and Federal land. The need and process to collect information from State and Indian Tribe applicants is detailed in 2 CFR part 200 and Forest Service Handbook 1509.11, Chapter 20, which prescribes administrative requirements and processes applicable to all Forest Service domestic Federal Financial Assistance awards to States and Indian Tribes. In particular, collection of information is necessary to ascertain the required needs of applicants to initiate a temporary bridge program to protect water resources and reduce water quality degradation during forestry related operations requiring temporary water resource crossings. Information collected will be reviewed by Forest Service staff to evaluate eligibility and proposed activities of the applicant.

Affected Public: State and Tribal Government.

Estimate of Burden per Response: 6.5 hours.

Estimated Annual Number of Respondents: 50.

Estimated Annual Number of Responses per Respondent: 1

Estimated Total Annual Burden on Respondents: 325 hours.

Comment is Invited:

Comment is invited on: (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Jaelith Hall-Rivera,
Deputy Chief, State & Private Forestry.

[FR Doc. 2022-27674 Filed 12-20-22; 8:45 am]

BILLING CODE 3411-15-P